DEPARTMENT OF THE INTERIOR

Bureau of Land Management

[LLES002000.L16100000.DO0000.L.X.SS.015M0000]

Notice of Availability of Record of Decision for the Alabama and Mississippi Resource Management Plan/Environmental Impact Statement

AGENCY: Bureau of Land Management, Interior.

ACTION: Notice of availability.

SUMMARY: The Bureau of Land Management (BLM) announces the availability of the Record of Decision (ROD)/Approved Resource Management Plan (RMP) for the states of Alabama and Mississippi. The Eastern State Director signed the ROD on January 30, 2009, which constitutes the final decision of the BLM and makes the approved RMP effective immediately.

ADDRESSES: Copies of the ROD/approved RMP are available upon request from the Field Manager, Jackson Field Office, Bureau of Land Management, 411 Briarwood Drive Suite 404, Jackson, Mississippi 39206 or via the Internet at http://wwwblm.gov/es/st/en/fo/Jackson_Home_Page.html, e-mail Gary_Taylor@blm.gov, or telephone Gary Taylor at (601) 977-5400.

FOR FURTHER INFORMATION CONTACT: Gary Taylor.

• E-mail: Gary_Taylor@blm.gov.

• Mail: Jackson Field Office, BLM, Attn: Gary Taylor, 411 Briarwood Drive, Suite 404, Jackson, Mississippi 39206.

SUPPLEMENTARY INFORMATION: The planning area is located in the states of Alabama and Mississippi. This planning activity encompasses approximately 1.67 million acres of public lands and resources. The State of Mississippi participated in development of the plan as a cooperating agency. The RMP addresses the following major questions: (1) How will human activities and uses be managed? (2) What facilities, uses, and infrastructure are appropriate to provide resource exploration while managing the protection of the biological, historical, cultural, and visual values of Federal resources in Alabama and Mississippi? (3) How will the RMP be integrated with other Federal and state agency community plans? (4) How will transportation and access be managed? (5) How will the RMP affect economic and social conditions in the area?

The Approved RMP was prepared under the authorities of the Federal Land Policy and Management Act of 1976 (FLPMA) and the National Environmental Policy Act of 1969 (NEPA). Additionally, this plan is consistent with all local plans and policies. The approved RMP is identical to the proposed plan (Alternative 3) presented in the 2008 Proposed RMP/Final EIS. All decisions covered by the ROD are either land-use planning decisions that were protestable under BLM's planning regulations (43 CFR 1610), or are implementation decisions that are appealable under 43 CFR part 4, as more fully discussed below. The BLM will develop a plan evaluation methodology to ensure that the RMP is being followed. There was one protest that was denied.

The decisions regarding oil and gas leasing and disposal of Federal surface lands are implementation decisions and are appealable under 43 CFR part 4. Any party adversely affected by these decisions may appeal within 30 days of publication of this Notice of Availability pursuant to 43 CFR part 4, subpart E.

The appeal must be filed with the Jackson Field Manager at the above listed address. Please consult the appropriate regulations (43 CFR part 4, subpart E) for further appeal requirements.

Juan Palma,
Director.

[FR Doc. E9-27785 Filed 11-20-09; 8:45 am]

BILLING CODE 4310-GJ-P